DEPARTMENT OF VETERANS AFFAIRS

Veterans' Advisory Committee on Rehabilitation; Notice of Meeting

The Department of Veterans Affairs (VA) gives notice under the Federal Advisory Committee Act that a meeting of the Veterans' Advisory Committee on Rehabilitation (VACOR) will be held on Thursday, January 4, 2018, via teleconference, from 1:00 p.m. (EST) until 3:00 p.m. (EST). The meeting is open to the public.

The purpose of the Committee is to provide advice to the Secretary on the rehabilitation needs of Veterans with disabilities and on the administration of VA's rehabilitation programs.

During the meeting, Committee members will participate in new members' orientation and review administrative guidelines. The primary agenda topics will be to discuss the purpose, vision and direction of VACOR.

Although no time will be allocated for receiving oral presentations from the public, members of the public may submit written statements for review by the Committee to Sabrina Barry, Designated Federal Officer, Veterans Benefits Administration (28), 810 Vermont Avenue NW., Washington, DC 20420, or via email at Sabrina.Barry@va.gov. In the communication, writers must identify themselves and state the organization, association or person(s) they represent.

Individuals who wish to call into the meeting should RSVP to Sabrina Barry at (202) 461-9618, no later than close of business, December 28, 2017. The dial in number to attend the conference is 1-800-767-1750. At the prompt, enter access code 78160 then press #. During the day of the meeting, please call in at least 15 minutes prior to the start of the meeting; callers will not be given access after 1:00 p.m. Any member of the public seeking additional information should contact Sabrina Barry at the phone number or email address noted above.

Dated: November 28, 2017.
LaTonya L. Small,
Federal Advisory Committee Management Officer.

[FR Doc. 2017-25891 Filed 11-30-17; 8:45 am]

BILLING CODE 8320-01-P